FEDERAL MARITIME COMMISSION

Ocean Transportation Intermediary License Reissuances

The Commission gives notice that the following Ocean Transportation Intermediary licenses have been reissued pursuant to section 19 of the Shipping Act of 1984 (46 U.S.C. 40101).

License No.: 022604F.

Name: Tri-Vi-U.S. Logistics Ltd.

Address: 170 E. Sunrise Highway, Valley Stream, NY 11580.

Date Reissued: October 3, 2013.

License No.: 024098F.

Name: Albarq Shipping Services Inc.

Address: 8151 Electric Avenue, Stanton, CA 90680.

Date Reissued: October 23, 2013.

License No.: 024117F.

Name: A & E Logistics, Inc.

Address: 3011 S. Poplar Avenue, Chicago, IL 60608.

Date Reissued: November 28, 2013.

Sandra L. Kusumoto,
Director, Bureau of Certification and Licensing.

[FR Doc. 2014-02358 Filed 2-4-14; 8:45 am]

BILLING CODE 6730-01-P